DEPARTMENT OF TRANSPORTATION

Federal Railroad Administration

[Docket Number FRA-2011-0069]

Notice of Petition for Extension of Waiver of Compliance

AGENCY: Federal Railroad Administration (FRA), Department of Transportation (DOT).

ACTION: Notice.

SUMMARY: This document provides the public notice that Northern Central Railway of York (NCRA) petitioned FRA to extend relief from certain glazing regulations.

DATES: FRA must receive comments on the petition by July 17, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Barron, Railroad Safety Specialist, FRA Motive Power & Equipment Division, telephone: 202-366-7117, email: michael.barron@dot.gov.

SUPPLEMENTARY INFORMATION: Under part 211 of title 49 Code of Federal Regulations (CFR), this document provides the public notice that by letters received March 6, 2025, and May 16, 2025, NCRA ¹ petitioned FRA for an extension of a waiver of compliance from certain provisions of the Federal railroad safety regulations contained at 49 CFR part 223 (Safety Glazing Standards—Locomotives, Passenger Cars and Cabooses). FRA assigned the petition Docket Number FRA-2011-0069.²

¹ The petitioner is Steam into History, Inc., doing business as Northern Central Railway of York.

² NCRA's relief in this docket expired on September 4, 2023, but FRA is considering this extension request in the same docket for continuity purposes.

Specifically, NCRA seeks relief from § 233.9, Requirements for equipment built or rebuilt after June 30, 1980, which, in part, requires locomotives with those characteristics to be equipped with certified glazing in all locomotive cab windows. NCRA seeks an extension of relief for glazing requirements on steam locomotive 17, which is used in tourist excursion service.

In support of its petition, NCRA states that locomotive 17 has had no instances of vandalism and operates at speed restrictions of 15 to 25 miles per hour.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 17, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-11090 Filed 6-16-25; 8:45 am]

BILLING CODE 4910-06-P